DEPARTMENT OF ENERGY

Federal Energy Regulatory Commission

[Project No. 2574-032 Maine]

Merimil Limited Partnership; Notice of Site Visit

September 6, 2001.

Take notice that the Applicant and Commission staff will tour the Lockwood Hydroelectric Project beginning at 1:30 p.m. on September 19, 2002. All interested individuals, organizations, and agencies are invited to attend.

All participants should meet at the Lockwood Project powerhouse on Water Street, Waterville, Maine.

For further information contact Nan Allen at (202) 502-6128.

Magalie R. Salas,
Secretary.

[FR Doc. 02-23215 Filed 9-11-02; 8:45 am]

BILLING CODE 6717-01-P